DEPARTMENT OF HEALTH AND HUMAN SERVICES

Agency for Toxic Substances and Disease Registry

[Program Announcement 01192]

Feasibility Investigation of GAF-Mattel-Tyco Site; Beaverton, Oregon; Site-Specific Health Activities; Notice of Availability of Funds

A. Purpose

The Agency for Toxic Substances and Disease Registry (ATSDR) announces the availability of fiscal year (FY) 2001 funds for a cooperative agreement program to conduct a feasibility investigation at the former GAF-Mattel-Tyco site in Beaverton, Oregon where contamination of trichloroethylene (TCE) in the drinking water was discovered. This program addresses the “Healthy People 2010” focus area of Environmental Health.

The purpose of this program is to assess the feasibility of quantifying individual exposure to TCE and to initiate efforts to establish a cohort of all former workers including obtaining demographic information and work histories of all former workers. The information gathered in the development of the cohort will serve as a basis for future studies of this cohort.

B. Eligible Applicants

Assistance will be provided only to the Oregon Department of Human Services, Health Division. No other applications are solicited.

The Oregon Department of Human Services, Health Division is the most appropriate and qualified recipient to conduct the activities specified under this cooperative agreement because:

1. The Oregon Department of Human Services, Health Division is involved with this site and has been responding to health concerns of former workers since 1998.

2. The Oregon Department of Human Services has unique access to state records that will be necessary in obtaining needed information on the cohort of former workers.

3. Under the consent decree, the potentially responsible parties are required to compile a database of former workers. The potentially responsible parties are further required to provide the database to Oregon's Department of Environmental Quality (DEQ) (Order on Consent No. WMCSR-NWR-98-17). For the purposes of conducting health studies, DEQ will share the database only with ATSDR and the Oregon Department of Human Services. Access to this database is essential for constructing the cohort of former workers and assessing the feasibility of conducting future health studies.

Note: Title 2 of the United States Code, Chapter 26, Section 1611 states that an organization described in section 501(c)(4) of the Internal Revenue Code of 1986 that engages in lobbying activities is not eligible to receive federal funds constituting an award, grant, cooperative agreement, contract, loan, or any other form.

C. Availability of Funds

Approximately $100,000 is available in FY 2001 to fund one award to the Oregon Department of Human Services, Health Division. The award is expected to begin on or about September 30, 2001, and will be made for a 12-month budget within a project period of up to 2 years.

D. Where To Obtain Additional Information

Program technical assistance may be obtained from:

Curtis Noonan, PhD, Epidemiologist, Division of Health Studies, Agency for Toxic Substances and Disease Registry, Executive Park, Building 4, Suite 1300, Atlanta, GA 30305, Telephone: (404) 498-0588, E-mail Address: cnoonan@cdc.gov

or

Maggie Warren, Funding Resource Specialist, Division of Health Studies, Agency for Toxic Substances and Disease Registry, 1600 Clifton Rd., NE., Mail Stop E-31, Atlanta, GA 30333, Telephone: (404) 498-0546, E-mail Address: mcs9@cdc.gov

Business management technical assistance may be obtained from: Nelda Y. Godfrey, Grants Management Specialist, Grants Management Branch, Procurement & Grants Office, Centers for Disease Control and Prevention, Room 3000, 2920 Brandywine Road, Atlanta, GA 30341-4146. Telephone number: (770) 488-2722. Email address: nag9@cdc.gov

Dated: August 7, 2001.
Georgi Jones,
Director, Office of Policy and External Affairs, Agency for Toxic Substances and Disease Registry.

[FR Doc. 01-20372 Filed 8-13-01; 8:45 am]

BILLING CODE 4163-70-P